DEPARTMENT OF THE INTERIOR

Bureau of Land Management

[OR-958-1430-ET; GPO-02-047; OR-19228]

Public Land Order No. 7523; Revocation of Executive Order Dated November 13, 1889; Oregon

AGENCY: Bureau of Land Management, Interior.

ACTION: Public Land Order.

SUMMARY: This order revokes an Executive Order in its entirety as to the remaining 313.77 acres of lands withdrawn for the U.S. Army, Corps of Engineers' Coos Bay and Harbor Improvement Project. The lands are no longer needed for the purpose for which they were withdrawn. This action will open the lands to surface entry. The lands have been and will remain open to mineral leasing. The lands are within the Bureau of Land Management's Coos Bay North Spit Special Recreation Management Area and would remain closed to mining.

EFFECTIVE DATE: June 10, 2002.

FOR FURTHER INFORMATION CONTACT: Charles R. Roy, BLM Oregon/ Washington State Office, P.O. Box 2965, Portland, Oregon 97208-2965, 503-808-6189.

SUPPLEMENTARY INFORMATION: By virtue of the authority vested in the Secretary of the Interior by Section 204 of the Federal Land Policy and Management Act of 1976, 43 U.S.C. 1714 (1994), it is ordered as follows:

1. The Executive Order dated November 13, 1889, which withdrew lands for the Corps of Engineers' Coos Bay and Harbor Improvement Project, is hereby revoked in its entirety as to the following described public lands:

Willamette Meridian

T. 25 S., R. 13 W.,

Sec. 18, lot 8, fractional W½NW¼, and fractional NW¼SW¼.

T. 25 S., R. 14 W.,

Sec. 13, lots 1, 2, and E½SE¼.

The areas described aggregate approximately 313.77 acres in Coos County.

2. At 8:30 a.m. on June 10, 2002, the lands described in paragraph 1 will be opened to the operation of the public land laws generally, subject to valid existing rights, the provisions of existing withdrawals, other segregations of record, and the requirements of applicable law. All valid applications received at or prior to 8:30 a.m. on June 10, 2002, shall be considered as simultaneously filed at that time. Those received thereafter shall be considered in the order of filing.

3. The lands described in paragraph 1 are within the Bureau of Land Management's North Spit Special Recreation Management Area and will remain withdrawn from location and entry under the United States mining laws pursuant to Public Land Order No. 7436, 65 FR 15920 (March 24, 2000).

Dated: April 23, 2002.
Rebecca W. Watson,
Assistant Secretary, Land and Minerals Management.

[FR Doc. 02-11575 Filed 5-8-02; 8:45 am]

BILLING CODE 4310-33-P